DEPARTMENT OF COMMERCE

National Oceanic and Atmospheric Administration

RIN 0648-XC171

Endangered and Threatened Species; Take of Anadromous Fish

AGENCY: National Marine Fisheries Service (NMFS), National Oceanic and Atmospheric Administration (NOAA), Commerce.

ACTION: Receipt of application for scientific research and enhancement.

SUMMARY: Notice is hereby given that NMFS has received one scientific research and enhancement permit application request relating to anadromous species listed under the Endangered Species Act (ESA). The proposed research activities are intended to increase knowledge of the species and to help guide management and conservation efforts. The application and related documents may be viewed online at: https://apps.nmfs.noaa.gov/preview/preview_open_for_comment.cfm. These documents are also available upon written request or by appointment by contacting NMFS by phone (916) 930-3607 or fax (916) 930-3629.

DATES: Written comments on the permit applications must be received at the appropriate address or fax number (see ADDRESSES) no later than 5 p.m. Pacific standard time on September 24, 2012.

ADDRESSES: Written comments on either application should be submitted to the Protected Resources Division, NMFS, 650 Capitol Mall, Room 5-100, Sacramento, CA 95814. Comments may also be submitted via fax to (916) 930-3629 or by email to FRNpermits.SR@noaa.gov.

FOR FURTHER INFORMATION CONTACT: Amanda Cranford, Sacramento, California, ph.: 916-930-3706, email: Amanda.Cranford@noaa.gov.

SUPPLEMENTARY INFORMATION:

Species Covered in This Notice

This notice is relevant to federally threatened California Central Valley (CCV) steelhead (Oncorhynchus mykiss), threatened Central Valley (CV) spring-run Chinook salmon (O. tshawytscha), endangered Sacramento River (SR) winter-run Chinook salmon (O. tshawytscha), and threatened southern distinct population segment of North American (sDPS) green sturgeon (Acipenser medirostris).

Authority

Scientific research permits are issued in accordance with section 10(a)(1)(A) of the ESA of 1973 (16 U.S.C. 1531-1543) and regulations governing listed fish and wildlife permits (50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the application listed in this notice should set out the specific reasons why a hearing on the application(s) would be appropriate (see ADDRESSES). Such hearings are held at the discretion of the Assistant Administrator for Fisheries, NMFS.

Application Received

Permit 17077

The University of California, Davis is requesting a 4-year scientific research and enhancement permit to take adult and juvenile CCV steelhead, SR winter-run Chinook salmon, CV spring-run Chinook salmon, and sDPS green sturgeon associated with research activities in the Cache Slough Complex, Sherman Lake, and Suisun Marsh in the San Francisco estuary, California. In the studies described below, researchers do not expect to kill any listed fish but a small number, up to 20 percent (equivalent to one fish), may die as an unintended result of the research activities.

The Sacramento-San Joaquin Delta is dominated by deep-water aquatic habitats that tend to support invasive fishes such as largemouth bass and not native species. Relatively little shallow water and marsh (SWM) habitat remains, although it dominated the Delta before the 1850s. In other estuaries, such areas are critical for fish reproduction, fish rearing, and fish foraging. However, in the San Francisco Estuary (SFE), there are limited data on fish usage of such habitat, in part because of the difficulty in effectively sampling SWM regions. The purpose of this project is to develop better understanding of how physical habitat, flow and other factors interact to maintain assemblages of native and non-native aquatic species in the upper SFE.

The project will span three distinct regions across the SFE: (1) The Cache-Lindsay Slough complex, (2) the Sherman Lake complex and (3) Suisun Marsh. The survey methods will be the same for each of these regions, and will include otter trawling, beach seining and electrofishing. Water quality and habitat data will be collected concurrently.

The project specifically targets splittail and other native minnow populations. Some incidental take of ESA listed salmonids and sDPS green sturgeon may be expected. All sampled fish will be placed in a bucket of aerated, ambient water, examined for responsiveness and returned to the water as soon as possible with minimal handling that will include species identification and length estimates.

Dated: August 21, 2012.
Dwayne Meadows,
Acting Chief, Endangered Species Division, Office of Protected Resources, National Marine Fisheries Service.

[FR Doc. 2012-20929 Filed 8-23-12; 8:45 am]

BILLING CODE 3510-22-P